DEPARTMENT OF ENERGY

Federal Energy Regulatory Commission

[Docket No. CP04-371-000]

Chandeleur Pipe Line Company; Notice of Abbreviated Application for Certificate of Public Convenience

July 14, 2004.

Take notice that on July 1, 2004, Chandeleur Pipe Line Company (Chandeleur), pursuant to section 7(c) of the Natural Gas Act (NGA), as amended, and part 157 of the Commission's regulations submitted an abbreviated application for a certificate of public convenience and necessity, authorizing the acquisition of volumes of natural gas to comprise system line pack and the authority to include the costs of the line pack acquired hereunder in future rate filings. The cost of the proposed acquisition is $318,432.

Chandeleur states that the acquisition by Applicant of the line pack will ensure standardization with industry practice.

Questions regarding this application should be directed to Linda L. Geoghegan, at 2811 Hayes Road, Houston, TX 77082 or by telephone at (281) 596-3592 or via e-mail at GeoghLL@ChevronTexaco.com.

Any person desiring to be heard or to protest said application should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Take further notice that, pursuant to the authority contained in, and subject to the jurisdiction conferred upon the Commission by sections 7 and 15 of the Natural Gas Act and the Commission's Rules of Practice and Procedure, a hearing will be held without further notice before the Commission or its designee on the application if no motion to intervene is filed within the time required herein and if the Commission, on its own review of the matter, finds that a grant of the certificate is required by the public convenience and necessity. If a motion for leave to intervene is timely filed, or if the Commission, on it own motion, believes that a formal hearing is required, further notice of such hearing will be duly given.

Under the procedure herein provided for, unless otherwise advised, it will be unnecessary for Chandeleur to appear or be represented at the hearing.

Comment Date: July 29, 2004.

Magalie R. Salas,
Secretary.

[FR Doc. E4-1616 Filed 7-20-04; 8:45 am]

BILLING CODE 6717-01-P